DEPARTMENT OF THE INTERIOR

Bureau of Land Management

[OR-035-5900-DH: GP1-0031]

Notice of Intent to Prepare an Environmental Impact Statement (EIS) for the Lookout Mountain Landscape Area Management Plan and Baker Resource Management Plan Amendment in Baker County, Oregon

AGENCY: Bureau of Land Management, USDI.

ACTION: Notice of Intent to Prepare an Environmental Impact Statement (EIS) for the Lookout Mountain Landscape Area Management Plan and Baker Resource Management Plan (RMP) Amendment in Baker County, Oregon and Notice of Scoping.

SUMMARY: In accordance with the National Environmental Policy Act of 1969, the Bureau of Land Management, Vale District, Baker Field Office, will be preparing an EIS on the impacts of proposed management activities in the Lookout Mountain geographic management area and a Resource Management Plan (RMP) Amendment (43 CFR 1610.5-5). Proposed projects include, range improvements, vegetation manipulation, forest health enhancement, watershed restoration and wildlife habitat enhancement. At a minimum, the proposed RMP Amendment would change the Visual Resource Management (VRM) allocations within the Lookout Mountain geographic area based on new inventories.

DATES: Written comments for the initial scoping will be accepted until January 8, 2001. A public meeting will be held in Baker County prior to finalizing the alternatives for the DEIS. The time, place and date of the public meeting will be published in Baker City Harold, Hells Canyon Journal, and the Argus Observer. Additional meetings will be considered as appropriate. Comment period length will be noted at each point in the planning and analysis process.

SUPPLEMENTARY INFORMATION: The project area consists of approximately 25,000 acres of public lands located between the Brownlee Reservoir of the Snake River and Durkee, Oregon. The area includes portions of the Morgan Creek, Hibbard Creek, Fox Creek, Conner Creek, Daley Creek and Sisley Creek drainages. Potential activities may include, but are not limited to, timber harvesting, tree thinning, prescribed burning, tree planting, juniper removal, fence construction, noxious weed treatment, rangeland seeding, riparian planting, placement of large woody debris in stream channels, new road construction, road improvements and road closures. Interdisciplinary team disciplines to be represented will include; forestry, recreation, range conservation, hydrology, wildlife, fisheries, botany, archeology, geology and engineering.

The Baker Field Office originally started public scoping for these projects with a letter that went out on May 21, 1999 and a field trip to the area in the fall of 1999. Based on this scoping and the initial assessment, the analysis has been elevated from an Environmental Assessment to an Environmental Impact Statement. Comments received during the initial scoping have been retained and will be carried forward through the planning process.

The Tentative Project Schedule Is as Follows:

File Draft EIS—Spring, 2001

File Final EIS—Fall, 2001

Record of Decision—Winter, 2002

Public participation will be especially important at several points during the analysis and planning process. The scoping process (40 CFR 1501.7) for this analysis will include;

1. Identification of the issues to be addressed,

2. Identification of viable alternatives,

3. Identifying and notifying interested groups, individual and agencies to determine level of participation and obtain additional information concerning issues to be addressed in the EIS.

Comments, including names and addresses of respondents, will be available for public review at the Baker Field Office during normal working hours (7:45 AM to 4:30 PM except holidays), and may be published as part of the EIS or other related documents. Individuals may request confidentiality. If you wish to withhold your name or address from public review or from disclosure under the Freedom of Information Act, you must state this promptly at the beginning of your comment. Such requests will be honored to the extent allowed by law. All submissions from organizations or businesses will be made available for public inspection in their entirety. The planning documents and direct supporting record for the analysis and plan amendment will be available for inspection at the Baker Field Office during normal working hours. Historical records may also be posted on the BLM inter-net site to facilitate public access.

ADDRESSES: Comments should be sent to Penelope Dunn Woods, Field Manager, Baker Resource Area, Vale District, Bureau of Land Management, 3165 10th St, Baker City, Oregon 97814. Comments may also be sent by e-mail to Baker_Mail@or.blm.gov.

FOR FURTHER INFORMATION CONTACT: Dick Watson, Bureau of Land Management, 3165 10th Street, Baker City, Oregon 97841, (541) 523-1339.

Penelope Dunn Woods,
Field Manager, Baker Resource Area.

[FR Doc. 00-30183 Filed 11-27-00; 8:45 am]

BILLING CODE 4310-33-M